DEPARTMENT OF THE INTERIOR

Geological Survey

[GX20EE000101100]

Public Meeting of the National Geospatial Advisory Committee

AGENCY: U.S. Geological Survey, Interior.

ACTION: Notice of public webinar meeting.

SUMMARY: In accordance with the Federal Advisory Committee Act of 1972, the U.S. Geological Survey (USGS) is publishing this notice to announce that a Federal Advisory Committee meeting of the National Geospatial Advisory Committee (NGAC) will take place.

DATES: The webinar meeting will be held on Tuesday, October 27, 2020 from 1:00 p.m. to 5:00 p.m., and on Wednesday, October 28, 2020 from 1:00 p.m. to 5:00 p.m. (Eastern Daylight Time).

ADDRESSES: The meeting will be held via webinar and teleconference. Send your comments to Mr. James Sayer, Group Federal Officer by email to gs-faca-mail@usgs.gov.

FOR FURTHER INFORMATION CONTACT: Mr. John Mahoney, Federal Geographic Data Committee, U.S. Geological Survey, 909 First Avenue, Suite 800, Seattle, WA 98104; by email at jmahoney@usgs.gov; or by telephone at (206) 220-4621.

SUPPLEMENTARY INFORMATION: This meeting is being held under the provisions of the Federal Advisory Committee Act of 1972 (5 U.S.C., Appendix 2), the Government in the Sunshine Act of 1976 (5 U.S.C. 552B, as amended), and 41 CFR 102-3.140 and 102-3.150.

Purpose of the Meeting: The NGAC provides advice and recommendations related to management of Federal and national geospatial programs, the development of the National Spatial Data Infrastructure, and the implementation of the Geospatial Data Act of 2018 and Office of Management and Budget Circular A-16. The NGAC reviews and comments on geospatial policy and management issues and provides a forum to convey views representative of non-federal stakeholders in the geospatial community. The NGAC meeting is one of the primary ways that the FGDC collaborates with its broad network of partners. Additional information about the NGAC meeting is available at: www.fgdc.gov/ngac.

Agenda Topics

—FGDC Update

—Geospatial Data Act Implementation

—National Spatial Data Infrastructure Strategic Plan

—Landsat Advisory Group

—NGAC Operations

—Public-Private Partnerships

—Public Comments

Meeting Accessibility/Special Accommodations: The webinar meeting is open to the public and will take place from 1:00 p.m. to 5:00 p.m. on October 27 and from 1:00 p.m. to 5:00 p.m. on October 28. Members of the public wishing to attend the meeting should contact Mr. John Mahoney by email at jmahoney@usgs.gov to register. Webinar/conference line instructions will be provided to registered attendees prior to the meeting. Individuals requiring special accommodations to access the public meeting should contact Mr. John Mahoney at the email stated above or by telephone at (206) 220-4621 at least five (5) business days prior to the meeting so that appropriate arrangements can be made.

Public Disclosure of Comments: There will be an opportunity for public comment during the meeting. Depending on the number of people who wish to speak and the time available, the time for individual comments may be limited. Written comments may also be sent to the Committee for consideration. To allow for full consideration of information by the Committee members, written comments must be provided to John Mahoney, Federal Geographic Data Committee, U.S. Geological Survey, 909 First Avenue, Seattle, WA 98104; by email at jmahoney@usgs.gov; or by telephone at (206) 220-4621, at least three (3) business days prior to the meeting. Any written comments received will be provided to the committee members before the meeting.

Before including your address, phone number, email address, or other personal identifying information in your comment, you should be aware that your entire comment—including your personal identifying information—may be made publicly available at any time. While you may ask us in your comment to withhold your personal identifying information from public review, we cannot guarantee that we will be able to do so.

(Authority: 5 U.S.C. Appendix 2)

Kenneth M. Shaffer,
Deputy Executive Director, Federal Geographic Data Committee.

[FR Doc. 2020-21412 Filed 9-28-20; 8:45 am]

BILLING CODE 4338-11-P